DEPARTMENT OF COMMERCE

National Oceanic and Atmospheric Administration

[I.D. 032905A]

Marine Mammals; File Nos. 434-1669, 1010-1641, 800-1664, 881-1668, 782-1768, 358-1769, 715-1784, and 1034-1773

AGENCY: National Marine Fisheries Service (NMFS), National Oceanic and Atmospheric Administration (NOAA), Commerce.

ACTION: Receipt of applications.

SUMMARY: Notice is hereby given that the following individuals and institutions have applied for a permit or permit amendment to conduct research on Steller sea lions (Eumetopias jubatus): Oregon Department of Fish and Wildlife, Corvallis, OR (ODFW; File No. 434-1669); the Aleutians East Borough, Juneau, AK (AEB: File No. 1010-1641); Dr. Randall Davis, Texas A&M University, Galveston, TX (File No. 800-1664); the Alaska SeaLife Center, Seward, AK (ASLC: File No. 881-1668); the National Marine Mammal Laboratory, Alaska Fisheries Science Center, Seattle, WA (NMML: File No. 782-1768); the Alaska Department of Fish and Game, Anchorage, AK (ADF&G: File No. 358-1769); The North Pacific Universities Marine Mammal Research Consortium, University of British Columbia, Vancouver, B.C. (NPUMMRC: File No. 715-1784); and Dr. Markus Horning, Texas A&M University, Galveston, TX (File No. 1034-1773).

DATES: Written, telefaxed, or e-mail comments must be received on or before May 4, 2005.

ADDRESSES: The applications and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

Alaska Region, NMFS, P.O. Box 21668, Juneau, AK 99802-1668; phone (907)586-7221; fax (907)586-7249.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on a particular request would be appropriate.

Comments may also be submitted by facsimile at (301)427-2521, provided the facsimile is confirmed by hard copy submitted by mail and postmarked no later than the closing date of the comment period.

Additionally, comments may be submitted by e-mail. The mailbox address for providing email comments is NMFS.Pr1Comments@noaa.gov. Include the appropriate file number(s) in the subject line of the e-mail comment as a document identifier.

FOR FURTHER INFORMATION CONTACT: Tammy Adams or Amy Sloan, (301)713-2289.

SUPPLEMENTARY INFORMATION: The subject permits and permit amendments are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

File No. 434-1669: Permit No. 434-1669, issued to ODFW on November 12, 2002 (67 FR 69724) authorizes takes of threatened Steller sea lions in California, Washington, and Oregon by capture, hot-branding, flipper tagging, collection of blood, tissue sampling, attachment external scientific instruments, harassment incidental to these activities and remote monitoring, and incidental mortality. The purpose of these activities is to continue monitoring the status of the Steller sea lion population in California, Oregon, and Washington. ODFW has requested an amendment to extend the duration of the permit for three years and also proposes to add a study on the effects of hot-brands. The proposed study of hot-brands does not include a request for an increase in numbers of animals captured and handled.

File No. 1010-1641: Permit No. 1010-1641, issued to AEB on November 12, 2002 (67 FR 69724), authorizes takes of Steller sea lions of all ages by harassment during aerial surveys and vessel-based behavioral observations in the western Gulf of Alaska, and scat collection at rookeries and haulouts along the Alaska Peninsula and Eastern Aleutian Islands. The permit also authorized mortality incidental to the research. AEB has requested an amendment to extend the duration of the permit, with an increase in the number of sea lions that may be harassed during aerial surveys annually. The purpose of the activities proposed by AEB is to provide additional information on seasonal prey consumption by Steller sea lions through analysis of scat collected at rookeries and haulouts along the Alaska Peninsula and Eastern Aleutian Islands, and to improve the accuracy and precision of population indices through expanded aerial and vessel surveys in the western Gulf of Alaska.

File No. 800-1664: Permit No. 800-1664, issued to Dr. Davis on November 12, 2002 (67 FR 69724), authorizes takes of threatened and endangered juvenile and adult female Steller sea lions in Alaska by capture, anesthesia, hot-branding, tissue sampling (including blood, skin, and blubber), attachment of scientific instruments (video system/data logger and satellite transmitters), and incidental mortality. Dr. Davis has requested an amendment to extend the duration of the permit and to modify some of the objectives and methods for taking Steller sea lions. The purpose of the activities proposed by Dr. Davis is to study the hunting behavior and three-dimensional movements of Steller sea lions. The results would be used, in conjunction with data on satellite remote sensing of hydrographic features, and on the abundance, distribution, and composition of prey at spatial and temporal scales, to address questions about Steller sea lion prey preference, predator/prey relationships, and ecological attributes of foraging habitat.

File No. 881-1668: Permit No. 881-1668, issued to the ASLC on November 12, 2002 (67 FR 69724), authorizes takes of threatened and endangered Steller sea lions in Alaska by capture, hot-branding, flipper tagging, collection of blood and tissue samples, attachment of external scientific instruments, incidental mortality, and harassment incidental to these activities and remote monitoring activities. The permit was amended on July 31, 2203 (68 FR 47294) to include capture and transport of up to 16 juvenile Steller sea lions per year to the ASLC for short-term captivity, health assessments (including anesthesia, blood sampling, blubber biopsy, diagnostic x-ray, endoscopy, bioelectric impedance analysis, deuterated water, and urinalysis), controlled fasting, and adrenocorticotrophic hormone challenge experiments. ASLC has requested permit amendments to extend the duration of the permit and modify some of the objectives, methods, and numbers of Steller sea lions taken. The ASLC states that the overall purpose of their activities, including the proposed amendments, is to collect information on the health status (e.g., morphometrics, body composition, immunology, epidemiology, endocrinology, viral serology), physiology (e.g., vitamin requirements, stress responses to capture, handling, and captivity), life history (e.g., ontogenetic and annual cycles, population dynamics), foraging behavior, and habitat use of Steller sea lions.

File No. 782-1768: The NMML has requested a five-year permit to collect information on the life history, foraging behavior, habitat use, physiology, population status and trends, survival and reproductive rates, and condition of Steller sea lions in the North Pacific. To accomplish this, NMML proposes to conduct aerial surveys and ground counts as well as capture, sample, and mark Steller sea lions. NMML has also requested a number of incidental mortalities.

File No. 358-1768: The ADF&G has requested a five-year permit to investigate the various hypotheses for the decline of Steller sea lions in western Alaska, including conducting studies of life history traits, physiological investigations of animal condition and time of weaning, and studies of animal movement and dive activity. To accomplish this, ADF&G proposes to conduct aerial surveys and ground counts as well as capture, sample, and mark Steller sea lions. ADF&G has also requested a number of incidental mortalities.

File No. 715-1784: The NPUMMRC has requested a five-year permit to collect data on sea lion distribution and diet compositions through aerial surveys of sea lion rookeries and haul outs in Southeast Alaska; collection of scat from rookeries and haul outs in Southeast Alaska; conducting behavioral observations of sea lions on rookeries, haul outs and tagged sea lions at sea; and mortality incidental to research. The objectives of the study are to understand how diets vary temporally and spatially, and how this variation is related to population trends and abundance, nutritional stress, and commercial fishing activities.

File No. 1034-1773: Dr. Horning has requested a five-year permit to surgically implant dual “Life History Transmitters” into up to 80 free-ranging Steller sea lions ages nine months to four years, using ship-based surgical operations under gas anesthesia. The objectives of the proposed study are (1) to determine age specific survival rates for juvenile Steller sea ions, (2) to determine the time of year for the greatest mortality of juvenile Steller sea lions, (3) to determine approximate locations of mortalities, (4) to analyze ontogenetic and seasonal changes in the dive behavior and dive effort from deceased animals and relate these to environmental conditions and prey abundance as assessed by other groups, (5) to test the effects of body condition and health indicators on survival of juveniles, and (6) to assess the predictive power of parameters measurable in juvenile Steller sea lions for future survival. All animals captured would also be subject to comprehensive “body condition and health assessments” and would be hot-branded for future identification. Dr. Horning has also requested a number of incidental mortalities.

In compliance with the National Environmental Policy Act of 1969 (42 U.S.C. 4321 et seq.), a draft Environmental Assessment (EA) has been prepared to examine whether significant environmental impacts could result from issuance of the proposed permits and permit amendments. The draft EA is available for review and comment simultaneous with the applications. The scope of the draft EA includes the following six environmental impact issues: (1) Is NMFS able to coordinate research under the various permits and ensure that activities are not unnecessarily duplicative and do not result in significant adverse impacts on threatened and endangered Steller sea lions? (2) Is NMFS able to adequately monitor the effects of the overall research program on Steller sea lions? (3) Can NMFS coordinate and synthesize the data generated by this research program in a way that is useful or meaningful for conservation of Steller sea lions? (4) Are all of the research proposals consistent with permit issuance criteria under the MMPA and ESA, such as whether all of the projects are likely to contribute to conservation of Steller sea lions? (5) Does the amount of incidental mortality to be authorized represent a significant adverse impact on Steller sea lions? (6) What are the potential effects of various research activities, either individually or cumulatively, on Steller sea lions as a species? Chapter 4 of the draft EA outlines NMFS analytical approach to evaluating alternatives.

Concurrent with the publication of this notice in the Federal Register, NMFS is forwarding copies of the applications to the Marine Mammal Commission and its Committee of Scientific Advisors.

Dated: March 29, 2005.
Stephen L. Leathery,
Chief, Permits, Conservation and Education Division, Office of Protected Resources, National Marine Fisheries Service.

[FR Doc. 05-6610 Filed 4-1-05; 8:45 am]

BILLING CODE 3510-22-S